THE NATIONAL FOUNDATION ON THE ARTS AND THE HUMANITIES

Meeting of Humanities Panel

AGENCY: The National Endowment for the Humanities.

ACTION: Notice of Meeting.

SUMMARY: Pursuant to the provisions of the Federal Advisory Committee Act (Pub. L. 92-463, as amended), notice is hereby given that a meeting of the Humanities Panel will be held at the Old Post Office, 1100 Pennsylvania Avenue NW., Washington, DC 20506.

FOR FURTHER INFORMATION CONTACT: Lisette Voyatzis, Advisory Committee Management Officer, National Endowment for the Humanities, Washington, DC 20506; telephone (202) 606-8322. Hearing-impaired individuals are advised that information on this matter may be obtained by contacting the Endowment's TDD terminal on (202) 606-8282.

SUPPLEMENTARY INFORMATION: The purpose of this Humanities Panel meeting is to advise the Endowment on its EDISTEment program, specifically the creation of content on the topic of world history for the EDSITEment Web site. EDSITEment is an on-line educational partnership between the Endowment and the Verizon Foundation, Thinkfinity.org, and can be accessed at http://edsitement.neh.gov/. The morning session of the meeting will be open to the public. A ten-minute time slot at the end of the public session of the meeting is reserved for public comments. The afternoon session of the meeting will be closed to the public pursuant to subsection (c)(9)(B) of section 552b of Title 5, United States Code because that portion of the proposed meeting will consider information that is likely to disclose information the premature disclosure of which would be likely to significantly frustrate implementation of a proposed agency action. I have made this determination under the authority granted me by the Chairman's Delegation of Authority to Close Advisory Committee meetings, dated July 19, 1993.

Date: January 10, 2012.

Time: 9 a.m. to 2 p.m.

Room: 421.

Program: This meeting will provide advice about the creation of content for world history on the Endowment's EDSITEment Web site.

Agenda: 9 a.m. to 12 p.m.—Open session.

12:30 p.m. to 2 p.m.—Closed session.

Lisette Voyatzis,
Advisory Committee, Management Officer.

[FR Doc. 2011-31846 Filed 12-12-11; 8:45 am]

BILLING CODE 7536-01-P